DEPARTMENT OF ENERGY

Federal Energy Regulatory Commission

[Docket No. CP00-40-006]

Florida Gas Transmission Company; Notice of Amendment

January 31, 2002.

Take notice that on January 22, 2002, Florida Gas Transmission Company (FGT), 1400 Smith Street, Houston, Texas 77002, filed in Docket No. CP00-40-006, an application pursuant to Section 7(c) of the Natural Gas Act to amend the certificate of public convenience and necessity issued to FGT on July 27, 2001, in Docket Nos. CP00-40-000, et al., authorizing the construction and operation of the Phase V Expansion. FGT seeks to amend the certificate in order to relocate the site of the proposed Compressor Station No. 31 (Station 31), and modify related environmental conditions listed in the appendix to the July 27 order, all as more fully set forth in the application which is on file with the Commission and open to public inspection. Copies of this filing are on file with the Commission and are available for public inspection. This filing may also be viewed on the web at http://www.ferc.gov using the “RIMS” link, select “Docket #” and follow the instructions (call 202-208-2222 for assistance).

As part the Phase V Expansion, FGT was authorized to construct Station 31at a site in Osceola County, Florida. The City of Kissimmee, Osceola County, and local residents objected to the location, and some parties sought rehearing of the July 27 order with respect to the location of Station 31.

FGT states that, in an effort to accommodate the desires of local residents and resolve their disagreement with the Commission's decision with respect to the location of Station 31, FGT has identified an alternate site for Station 31, also located in Osceola County, but which, upon removal of an RV Park in May 2002, will have no residences within a half-mile radius. FGT's amendment application includes letters from The City of Kissimmee and Osceola County expressing their support for the alternate location proposed in the amendment and stating that they will withdraw their requests for rehearing of the Commission's authorization of the initial proposed site of Station 31 after a final Commission order authorizing the new location. Consequently, FGT requests revision of Environmental Condition No. 27 and elimination of Environmental Condition No. 28 which require FGT to work with The City of Kissimmee and Osceola County to develop a landscaping plan and exterior design to mitigate the impact on residents located near the originally proposed site.

FGT states that it will utilize the same horsepower and unit, as previously approved, and that there will be no loss in FGT's ability to serve all firm requirements. FGT requests that its amendment be approved by April 1, 2002, so that the facilities can be placed in-service as quickly as possible.

Any questions concerning this application may be directed to Mr. Stephen T. Veatch, Director of Certificates and Regulatory Reporting, Suite 3997, 1400 Smith Street, Houston, TX 77002 or call (713) 853-6549.

There are two ways to become involved in the Commission's review of this project. First, any person wishing to obtain legal status by becoming a party to the proceedings for this project should, on or before February 21, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Acting Secretary.

[FR Doc. 02-2773 Filed 2-5-02; 8:45 am]

BILLING CODE 6717-01-P